ENVIRONMENTAL PROTECTION AGENCY

[FRL-7926-2]

Velsicol/Hardeman County Landfill Superfund Site, et al.; Notice of Proposed Settlement

AGENCY: Environmental Protection Agency (EPA).

ACTION: Notice of settlement.

SUMMARY: In accordance with section 122(i) of the Comprehensive Environmental Response, Compensation, and Liability Act, as amended (“CERCLA”), 42 U.S.C. 9622(i), notice is hereby given of a proposed administrative ability-to-pay settlement with Velsicol Chemical Corporation relating to Paragraph 15 of the August 9, 2002 Settlement Agreement approved by the United States Bankruptcy Court for the District of Delaware in In re Fruit of the Loom, Inc., No. 99-4497(PJW) and to Paragraph 15 of the August 28, 2002 Agreement and Settlement for Recovery of Response Costs, EPA Docket No. 00-51-C (Region 4). These Agreements relate to the following sites: The Velsicol/Hardeman County Landfill Superfund Site, Toone, Hardeman County, Tennessee; the Velsicol Chemical Superfund Site, St. Louis, Michigan; the Woodridge/Berry's Creek Superfund Site, Wood-Ridge and Carlstadt, New Jersey; the North Hollywood Dump Superfund Site, Memphis Tennessee, the Residue Hill Site, Chattanooga, Tennessee; the Marshall 23 Acre Site, Marshall, Illinois; the Breckenridge Site, Breckenridge, Michigan; the Mathis Brothers/South Marble Top Road Landfill Superfund Site; Kensington, Walker County, Georgia; the Valley Chemical Superfund Site, Greenville, Mississippi; the Tennessee Products Superfund Site, Chattanooga, Tennessee; the Former Coke Production Plant Property, Chattanooga, Tennessee; and the Shaver's Farm Superfund Site, Lafayette, Walker County, Georgia. The proposed administrative settlement requires Velsicol Chemical Corporation to pay $1,454,000 million to resolve its liability under Paragraph 15 of the August 9, 2002 Settlement Agreement and foregoes further recovery under Paragraph 15 of the August 28, 2002 Agreement. EPA will consider public comments on the Agreement until July 25, 2005. EPA may withdraw from or modify the Agreement if such comments should disclose facts or considerations which indicate the Agreement is inappropriate, improper or inadequate. Copies of the proposed settlement are available from: Ms. Paula V. Batchelor, U.S. Environmental Protection Agency, Region 4, Waste Management Division, 61 Forsyth Street, SW., Atlanta, Georgia 30303, 404/562-8887, Batchelor.Paula@epa.gov.

Written comments may be submitted to Ms. Batchelor at the above address by July 25, 2005.

Dated: June 7, 2005.
Rosalind H. Brown,
Chief, Superfund Enforcement & Information Management Branch, Waste Management Division.

[FR Doc. 05-12452 Filed 6-22-05; 8:45 am]

BILLING CODE 6560-50-P